DEPARTMENT OF ENERGY

Federal Energy Regulatory Commission

Combined Notice of Filings #1

December 6, 2005.

Take notice that the Commission received the following electric rate filings.

Docket Numbers: ER01-2562-003.

Applicants: Competitive Energy Services, LLC.

Description: Competitive Energy Services, LLC submits its revised triennial updated market power analysis as instructed in Commission's Order issued November 3, 2005.

Filed Date: November 25, 2005.

Accession Number: 20051129-0134.

Comment Date: 5 p.m. Eastern Time on Friday, December 16, 2005.

Docket Numbers: ER02-580-004.

Applicants: Pawtucket Power Associates Limited Partnership.

Description: Pawtucket Power Associates L.P. reports that on November 10, 2005 Maxim Power Inc acquired 100% of the partnership interests of Pawtucket Power.

Filed Date: November 28, 2005.

Accession Number: 20051201-0017.

Comment Date: 5 p.m. Eastern Time on Monday, December 19, 2005.

Docket Numbers: ER03-478-007; ER06-200-001; ER03-1326-002; ER05-534-003; ER05-1262-001; ER03-296-005; ER01-3121-004; ER02-418-003; ER03-416-006; ER05-332-003; ER06-1-001; ER03-951-005; ER04-94-003; ER97-2801-009; ER02-417-003; ER05-1146-003; ER05-481-003.

Applicants: PPM Energy, Inc.; Big Horn Wind Project LLC; Colorado Green Holdings LLC; Eastern Desert Power LLC; Flat Rock Windpower, LLC; Flying Cloud Power Partners, LLC; Klamath Energy LLC; Klamath Generation LLC; Klondike Wind Power LLC; Klondike Wind Power II LLC; Leaning Juniper Wind Power LLC; Moraine Wind LLC; Mountain View Power Partners III, LLC; PacifiCorp; Phoenix Wind Power LLC; Shiloh I Wind Project, LLC Trimont Wind I LLC.

Description: PPM Energy Inc et al notifies FERC of potential departure from the characteristics relied upon by FERC in its various order accepting the Filing Parties' respective market-based rate tariffs.

Filed Date: November 22, 2005.

Accession Number: 20051201-0182.

Comment Date: 5 p.m. Eastern Time on Tuesday, December 13, 2005.

Docket Numbers: ER03-563-056; EL04-102-012.

Applicants: Devon Power LLC.

Description: ISO New England Inc. submitted sixth Compliance Report of updating progress made in the siting, permitting and construction of transmission and generation upgrades.

Filed Date: November 28, 2005.

Accession Number: 20051128-5064.

Comment Date: 5 p.m. Eastern Time on Monday, December 19, 2005.

Docket Numbers: ER05-1416-000.

Applicants: Southwest Power Pool, Inc.

Description: Southwest Power Pool, Inc submits compliance filing providing for a revision to the Service Agreement for Long-Term Firm Point-to-Point Transmission Service Agreement.

Filed Date: November 28, 2005.

Accession Number: 20051129-0219.

Comment Date: 5 p.m. Eastern Time on Monday, December 19, 2005.

Docket Numbers: ER05-287-002; ER00-1147-000.

Applicants: Granite Ridge Energy, LLC.

Description: Granite Ridge Energy, LLC submits a revisions to its Market-Based Rate Tariff, in compliance with FERC's November 17, 2005 Order.

Filed Date: November 28, 2005.

Accession Number: 20051129-0223.

Comment Date: 5 p.m. Eastern Time on Monday, December 19, 2005.

Docket Numbers: ER06-145-001.

Applicants: Commonwealth Electric Company.

Description: Commonwealth Electric Co submits a substitute Merchants Way Interconnection Agreement with New England Power Co.

Filed Date: November 28, 2005.

Accession Number: 20051129-0163.

Comment Date: 5 p.m. Eastern Time on Monday, December 19, 2005.

Docket Numbers: ER06-251-000.

Applicants: New England Power Company.

Description: New England Power Co on behalf of Massachusetts Electric Co., provides notice of cancellation of NEP Rate Schedule No. 438 and MECO Rate Schedule No. 68.

Filed Date: November 28, 2005.

Accession Number: 20051129-0218.

Comment Date: 5 p.m. Eastern Time on Monday, December 19, 2005.

Docket Numbers: ER06-267-000; OA06-1-000; TS06-4-000.

Applicants: Wolverine Creek Energy LLC and Wolverine Creek Goshen Interconnection LLC.

Description: Wolverine Creek Goshen Interconnection, LLC and Wolverine Creek Energy LLC, submit a Common Facilities Agreement with Ridgeline Airtricity Energy, LLC et al.

Filed Date: November 18, 2005.

Accession Number: 20051202-0057.

Comment Date: 5 p.m. Eastern Time on Friday, December 9, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7232 Filed 12-9-05; 8:45 am]

BILLING CODE 6717-01-P